INTERNATIONAL TRADE COMMISSION

[Investigation Nos. 701-TA-510 and 731-TA-1245 (Final)]

Calcium Hypochlorite From China

Determinations

On the basis of the record ¹ developed in the subject investigations, the United States International Trade Commission (“Commission”) determines, pursuant to sections 705(b) and 735(b) of the Tariff Act of 1930 (19 U.S.C. 1671d(b) and 19 U.S.C. 1673d(b)) (“the Act”), that an industry in the United States is materially injured by reason of imports of calcium hypochlorite from China, provided for in subheadings 2828.10.00, 3808.94.50, or 3808.99.95 of the Harmonized Tariff Schedule of the United States, that have been found by the Department of Commerce to be sold in the United States at less than fair value (“LTFV”), and to be subsidized by the government(s) of China.²

¹ The record is defined in sec. 207.2(f) of the Commission's Rules of Practice and Procedure (19 CFR 207.2(f)).

² All six Commissioners voted in the affirmative.

Background

The Commission instituted these investigations effective December 18, 2013, following receipt of a petition filed with the Commission and Commerce by Arch Chemicals, Inc., a Lonza Company, Atlanta, GA. The final phase of the investigations was scheduled by the Commission following notification of preliminary determinations by Commerce that imports of calcium hypochlorite from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on August 29, 2014 (79 FR 51605). The hearing was held in Washington, DC, on November 25, 2014, and all persons who requested the opportunity were permitted to appear in person or by counsel.

The Commission completed and filed its determinations in these investigations on January 21, 2015. The views of the Commission are contained in USITC Publication 4515 (January 2015), entitled Calcium Hypochlorite from China: Investigation Nos. 701-TA-510 and 731-TA-1245 (Final).

By order of the Commission.
Issued: January 21, 2015.
Lisa R. Barton,
Secretary to the Commission.

[FR Doc. 2015-01378 Filed 1-26-15; 8:45 am]

BILLING CODE 7020-02-P